DEPARTMENT OF ENERGY

Federal Energy Regulatory Commission

[Docket No. CP08-68-000]

Trunkline LNG Company, LLC; Notice of Filing

February 12, 2008.

Take notice that on February 1, 2008, Trunkline LNG Company, LLC (Trunkline LNG), 5444 Westheimer Road, Houston, Texas 77056, filed an application, pursuant to section 3(a) of the Natural Gas Act (NGA) and Part 157 of the Commission's Rules and Regulations, to install and operate a new 1,500 electric motor-driven pipeline compressor and related facilities at the existing Trunkline LNG Terminal (Terminal) in Calcasieu Parish, Louisiana. The application is on file with the Commission and open for public inspection. This filing is available for review at the Commission in the Public Reference Room or may be viewed on the Commission's Web site at http://www.ferc.gov using the “eLibrary” link. Enter the docket number excluding the last three digits in the docket number field to access the document. For assistance, please contact FERC Online Support at FERCOnlineSupport@ferc.gov or toll free at (866) 208-3676, or for TTY, contact (202) 502-8659.

The proposed compressor is necessary to capture and compress additional boil off gas when the Terminal is in a zero sendout mode of operation. Trunkline LNG states that the certificated sendout capacity of 1.8 Bcf per day of natural gas with a peak capacity of 2.1 Bch per day will not be changed. The construction and operation of the proposed facilities will occur entirely within the existing terminal's site. The estimated cost of the project is $3.5 million. Trunkline LNG currently provides firm terminalling services to BG LNG Services, LLC under its Rate Schedule FTS and FTS-2. Trunkline LNG proposed to place the facilities in service by August 2008.

Any questions regarding the application are to be directed to Mr. Stephen T. Veatch, Senior Director of Certificates and Tariffs, 5444 Westheimer Road, Houston, Texas 77056; phone number (713) 989-2024 or by e-mail at Stephen.Veatch@sug.com.

Any person wishing to obtain legal status by becoming a party to the proceedings for this project should, on or before the below listed comment date, file with the Federal Energy Regulatory Commission, 888 First Street, NE., Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

Motions to intervene, protests and comments may be filed electronically via the Internet in lieu of paper, see, 18 CFR 385.2001 (a)(1)(iii) and the instructions on the Commission's Web site under the “e-Filing” link. The Commission strongly encourages electronic filings.

Comment Date: March 4, 2008.

Kimberly D. Bose,
Secretary.

[FR Doc. E8-3048 Filed 2-19-08; 8:45 am]

BILLING CODE 6717-01-P